DEPARTMENT OF COMMERCE

National Oceanic and Atmospheric Administration

[I.D. 052400E]

Pacific Fishery Management Council; Public Meeting

AGENCY: National Marine Fisheries Service (NMFS), National Oceanic and Atmospheric Administration (NOAA), Commerce.

ACTION: Notice of public meeting.

SUMMARY: The Pacific Fishery Management Council's (PFMC) Groundfish Management Team (GMT) will hold a working meeting which is open to the public.

DATES: The GMT working meeting will begin Monday, June 19, 2000 at 1 p.m. and may go into the evening until business for the day is completed. The meeting will reconvene from 8 a.m. to 5 p.m. Tuesday, June 20 through Thursday, June 22 at 3 p.m.

ADDRESSES: The meetings will be held at NMFS Northwest Regional Office, 7600 Sand Point Way NE, Seattle, WA; telephone: (206) 526-6120.

Council address: Pacific Fishery Management Council, 2130 SW Fifth Avenue, Suite 224, Portland, OR 97201.

FOR FURTHER INFORMATION CONTACT: Jim Glock, Groundfish Fishery Management Coordinator, (503) 326-6352.

SUPPLEMENTARY INFORMATION: The purpose of the GMT meeting is to prepare reports and technical advice for the upcoming PFMC meeting and in support of PFMC decisions. The GMT will discuss, receive reports, and/or prepare reports on the following topics during this working session, (1) GMT organization and work plan for 2000; (2) draft groundfish strategic plan; (3) rockfish bycatch rates and related issues; (4) observer program issues; (5) sustainable groundfish harvest rates; (6) plan amendment for bycatch and other issues; (7) capacity reduction and permit issues; (8) rebuilding plans for canary and cowcod rockfish, and other species as necessary; (9) inseason catch monitoring, projections, and management; and (10) stock assessment priorities and biological sampling.

Although non-emergency issues not contained in this agenda may come before the GMT for discussion, those issues may not be the subject of formal action during this meeting. Action will be restricted to those issues specifically listed in this notice any any issues arising after publication of this notice that require emergency action under section 305(c) of the Magnuson-Stevens Fishery Conservationa and Management Act, provided the publci has been notified of the Council's action to take final action to address the emergency.

Special Accommodations

The meeting is physically accessible to people with disabilities. Requests for sign language interpretation or other auxiliary aids should be directed to Dr. Don McIsaac at (503) 326-6352 at least 5 days prior to the meeting date.

Dated: May 24, 2000.
Richard W. Surdi,
Acting Director, Office of Sustainable Fisheries, National Marine Fisheries Service.

[FR Doc. 00-13573 Filed 5-30-00; 8:45 am]

BILLING CODE 3510-22-F